DEPARTMENT OF ENERGY

Federal Energy Regulatory Commission

[Docket No. RP03-21-000]

Eastern Shore Natural Gas Company; Notice of Tariff Filing

October 31, 2002.

Take notice that on October 15, 2002, Eastern Shore Natural Gas Company (Eastern Shore) tendered for filing as part of its FERC Gas Tariff, second revised volume no. 1, first revised sheet no. 10, with an effective date of November 1, 2002.

Eastern Shore states that section 38(b), “Gas Supply Realignment Costs” authorizes it to seek recovery of all gas supply realignment costs prudently incurred as a result of implementing, in connection with implementing, or attributable to the requirements of FERC Order No. 636.

Eastern Shore states that such prudently incurred costs are now known and measurable in the amount of $196,379.71 and therefore seeks the necessary authorization to recover such costs in accordance with the General Terms and Conditions of its tariff.

Eastern Shore states that, consistent with the Commission's policy and the general terms and conditions of its FERC Gas Tariff, 90 % of such costs, or $176,741.74, is recoverable from eligible firm customers while the remaining 10 %, or $19,637.97, is recoverable through a volumetric surcharge of $0.0185 per dekatherm applied to deliveries made pursuant to Eastern Shore's rate schedule IT.

Eastern Shore states that copies of its filing has been mailed to its customers and interested State Commissions.

Any person desiring to be heard or to protest said filing should file a motion to intervene or a protest with the Federal Energy Regulatory Commission, 888 First Street, NE., Washington, DC 20426, in accordance with sections 385.214 or 385.211 of the Commission's rules and regulations. all such motions or protests must be filed on or before November 7, 2002. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-28801 Filed 11-13-02; 8:45 am]

BILLING CODE 6717-01-P